ENVIRONMENTAL PROTECTION AGENCY

[IN 168-1; FRL-8224-1]

Approval of the Clean Air Act Section 112(l) Delegation of National Emission Standards for Hazardous Air Pollutants for Boat Manufacturing; Indiana

AGENCY: Environmental Protection Agency (EPA).

ACTION: Notice.

SUMMARY: This document announces that, upon signature of this notice, EPA approved a request from the Indiana Department of Environmental Management (IDEM) for delegation of authority to implement and enforce National Emission Standards for Hazardous Air Pollutants (NESHAP) for Boat Manufacturing through a state rule which adjusts the maximum achievable control technology (MACT) standard for boat manufacturing. Pursuant to the Clean Air Act (CAA) and the NESHAP provisions, states may seek approval of state rules which make pre-approved adjustments to a MACT standard if the state rule is unambiguously no less stringent than the Federal rule. On June 20, 2005, IDEM requested approval to adjust the NESHAP for boat manufacturing. EPA reviewed this request and found that it satisfied the requirements for approval under the Federal provision which allows for delegation of an adjusted NESHAP, “Approval of State requirements that adjust a section 112 rule.” Therefore, upon the signature of this notice, EPA delegated to IDEM the authority to implement and enforce the NESHAP for boat manufacturing, through IDEM's rule for boat manufacturing.

ADDRESSES: The documents relevant to this action are available for public inspection during normal business hours at the following address: Environmental Protection Agency, Region 5, Air and Radiation Division, 77 West Jackson Boulevard, Chicago, Illinois 60604. This facility is open from 8:30 a.m. to 4:30 p.m., Monday through Friday, excluding Federal holidays. We recommend that you telephone Sam Portanova, Environmental Engineer, at (312) 886-3189 before visiting the Region 5 office.

FOR FURTHER INFORMATION CONTACT: Sam Portanova, Environmental Engineer, Air Permits Section, Air Programs Branch (AR-18J), Environmental Protection Agency, Region 5, 77 West Jackson Boulevard, Chicago, Illinois 60604, (312) 886-3189, portanova.sam@epa.gov.

SUPPLEMENTARY INFORMATION: Throughout this document whenever “we,” “us,” or “our” is used, we mean EPA. This supplementary information section is arranged as follows:

I. What Action Is EPA Taking?

II. Under What Authority Is EPA Approving This Delegation?

III. How Does 326 IAC 20-48 Meet the Requirements for Delegation?

IV. What Is the Effect of This Delegation?

I. What Action Is EPA Taking?

Pursuant to section 112(l) of the CAA and 40 CFR 63.92, EPA approved IDEM's request that EPA delegate the authority to implement and enforce 40 CFR part 63, subpart VVVV, NESHAP for boat manufacturing, through Indiana rule 326 IAC 20-48, which adjusts the Federal boat manufacturing MACT. This approval makes the Indiana rule, which is unambiguously no less stringent than the Federal MACT, federally enforceable in Indiana. EPA also approved the delegation of the applicable Category I authorities for this MACT standard as set forth at 40 CFR 63.91(g).

II. Under What Authority Is EPA Approving This Delegation?

Pursuant to CAA section 112(l), a state may develop and submit to EPA for approval a program for the partial or complete delegation of section 112 rules. EPA may approve state rules or programs which either: (1) Implement and enforce section 112 rules as promulgated by EPA (“straight delegation”); (2) implement and enforce state rules which adjust section 112 rules; (3) implement and enforce state rules which substitute for section 112 rules. The Federal regulations governing EPA's approval of state rules or programs under section 112(l) are located at 40 CFR part 63, subpart E.

Currently, IDEM has an EPA-approved program for the straight delegation of MACT standards. EPA approved IDEM's program of delegation for part 70 sources on November 14, 1995 (60 FR 57118). EPA approved IDEM's expansion of its program of delegation to non-part 70 sources on July 8, 1997 (62 FR 36460). Pursuant to the approved straight delegation program, EPA has approved the straight delegation of numerous MACT standards to IDEM (see 62 FR 36460 (7/8/1997), 65 FR 17264 (3/31/2000), 69 FR 22508 (4/26/2004), and 71 FR 2225 (1/13/2006)).

By letter dated June 20, 2005, IDEM requested approval of delegation of authority to implement and enforce 40 CFR part 63, subpart VVVV, the boat manufacturing MACT, through a State rule which adjusts the MACT standard. The criteria for EPA's approval of state rules which adjust section 112 rules are set forth at 40 CFR 63.92. In general, adjustments to section 112 MACT standards must be unambiguously no less stringent than the Federal rule and be limited to certain pre-approved matters. More specifically, Section 63.92(b) requires that the state demonstrate the following: (1) The State program meets the criteria of section 63.91, which provides for the straight delegation of section 112 rules; (2) the public has had adequate notice and opportunity to submit written comment on the state requirements which adjust the section 112 rule; (3) the adjustment to the section 112 rule results in requirements that are unequivocally no less stringent than the Federal rule with respect to: (a) Applicability; (b) level of control for each affected source and emission point; (c) compliance and enforcement measures; (d) dates of compliance. Further, Section 63.92(b)(3) only allows certain pre-approved adjustments, including the following: (1) Lowering a required emission rate; (2) adding a design, work practice, operational standard; (3) increasing a required control efficiency; (4) increasing the frequency of required reporting, testing, sampling or monitoring.

If the above criteria are met, EPA will approve the delegation of a MACT standard through a state rule which adjusts the standard. Because EPA has previously noticed and provided opportunity for comment on the adjustment procedure, including the list of allowable adjustments, no further notice or opportunity for comment is required. See 58 FR 62262 (November 26, 1993). The delegation is effective upon the signature of the Federal Register notice. CAA section 63.92(a)(3). See 65 FR 55837 (September 14, 2000)

III. How Does 326 IAC 20-48 Meet the Requirements for Delegation?

IDEM's boat manufacturing rule incorporates by reference the majority of the provisions of the Federal boat manufacturing NESHAP. However, IDEM's rule adjusts certain provisions of the Federal boat manufacturing NESHAP. As shown below, IDEM has demonstrated that its adjustments are unequivocally no less stringent than the Federal MACT provisions. The adjustments meet the criteria set forth in 40 CFR 63.92(b) for state rules which adjust a MACT standard.

A. The Boat Manufacturing NESHAP

The boat manufacturing MACT, which IDEM seeks to adjust, was proposed in the Federal Register on July 14, 2000 (65 FR 43841) and promulgated on August 22, 2001 (66 FR 44232). EPA published a correction to this notice on October 3, 2001 (66 FR 50504).

In general, the NESHAP for boat manufacturing facilities establishes emission standards for new and existing boat manufacturing facilities with resin and gel coat operations, carpet and fabric adhesive operations, or aluminum recreational boat surface coating operations.

B. How Does the State Program Meet the Requirements of 40 CFR 63.91?

40 CFR 63.92(b) provides that a state which seeks delegation of the authority to implement and enforce a Section 112 rule through a state rule which adjusts the Federal rule must first meet the criteria of 40 CFR 63.91(d). 40 CFR 63.91(d) sets forth the “up-front” approval requirements for the “straight” delegation of Federal MACT standards as promulgated. Once approved, a state need only reference the earlier approval of the criteria. Based on prior program submittals and approvals for IDEM's Title V air permit and Section 112 delegation program, IDEM has met the requirements specified in 40 CFR 63.91(d).

C. How Does the State Demonstrate That the Public Has Had Adequate Notice and Opportunity To Submit Written Comments on the State Requirements?

40 CFR 63.92(b)(1) requires that a state seeking delegation under this section demonstrate that the public has had adequate notice and opportunity to comment on the state requirements. Title 13 of the Indiana Code (IC) contains statutory requirements for the environmental rulemaking process. IC 13-14-9 specifies requirements for providing opportunities for public comment during this process. Opportunities for comment were made available through two published notices for comment and two public hearings. Therefore, IDEM has met the requirements of 40 CFR 63.92(b)(1).

D. How Does the State Demonstrate That the Adjustments Pertain to Certain Pre-Approved Matters and Are Unequivocally No Less Stringent Than the Federal Rule?

40 CFR 63.92(b)(2) requires that each state adjustment to a Federal Section 112 rule be unequivocally no less stringent than the Federal rule with respect to: Applicability; level of control for each affected source and emission point; compliance and enforcement measures; and compliance dates. Further, 40 CFR 63.92(b)(3) identifies those limited areas in which Federal Section 112 rules can be adjusted. Those limited adjustments include: Lowering a required emission rate; adding a design, work practice, operational standard, emission rate or other such requirement; increasing the frequency of required reporting, testing, sampling or monitoring.

IDEM incorporated by reference the provisions of 40 CFR part 63, subpart VVVV, as promulgated, except for certain limited provisions which are allowable adjustments under 40 CFR 63.92(b)(3). As described below, IDEM has demonstrated that those provisions that were adjusted meet the criteria of 63.92(b)(2) and (3).

1. How are the State emission limit adjustments unequivocally no less stringent than the MACT standard?

Table 2 of subpart VVVV includes the following limits:

For this operation— | And this application method— | You must not exceed this weighted-average organic HAP content (weight percent) requirement—
Pigmented gel coat operations | Any method | 33
Clear gel coat operations | Any method | 48
Tooling gel coat operations | Any method | 40

326 IAC 20-48-2 adjusts these limits as follows:

For this operation— | And this application method— | You must not exceed this weighted-average organic HAP content (weight percent) requirement—
Pigmented gel coat operations | Atomized (spray) | 33
Clear gel coat operations | Atomized (spray) | 48
Tooling gel coat operations | Atomized (spray) | 40
Pigmented gel coat operations | Nonatomized (nonspray) | 40
Clear gel coat operations | Nonatomized (nonspray) | 55
Tooling gel coat operations | Nonatomized (nonspray) | 54

When EPA developed the boat manufacturing NESHAP, it was not possible to apply gel coat using a nonatomized application method. Since the rule was promulgated, such technology has been developed. Nonatomized application has shown significant emissions reductions from atomized application methods.

The Indiana rule provides an incentive for the usage of nonatomized application technology by providing a higher allowable HAP content in gel coats. Despite the higher allowable HAP content, the requirement to use nonatomized application technology will result in a lower level of HAP emissions. This is demonstrated in the following table:

| Atomized limit (percent) | Emission factor (lbs/ton) ¹ | Nonatomized limit (percent) | Emission factor (lb/ton) ¹
Pigmented | 33 | 294 | 40 | 259
Clear | 48 | 605 | 55 | 395
Tooling | 40 | 439 | 54 | 386
¹ Calculated using the Unified Emission Factors for Open Molding Composites.

Therefore, Indiana's emission limit adjustments are unequivocally no less stringent than the Federal rule.

In addition to the emission limit adjustments, the Indiana rule (326 IAC 20-48-1(d)) lists the following references or methods to estimate emissions:

(1) “Unified Emission Factors for Open Molding Composites,” July 2001 (except use of controlled spray emission factors must be approved by the IDEM commissioner and U.S. EPA);

(2) “Compilation of Air Pollution Emission Factors AP-42,” as defined in 326 IAC 1-2-20.5 (except emissions from hand layup and spray layup operations must be calculated using emission factors referenced in (1) above or site-specific values using information in (3) below);

(3) Site-specific values or other means of quantification provided the site-specific values and the emission factors are acceptable to the IDEM commission and U.S. EPA.

This rule adjustment does not create a credible evidence issue because it includes language to allow “other means of quantification” if necessary. Therefore, this adjustment is unequivocally no less stringent than the Federal rule.

2. How are the State adjustments which add work practice standards and operator training requirements unequivocally no less stringent than the MACT standard?

The Indiana rule (326 IAC 20-48-3) adds work practice standards that are not included in the Federal NESHAP. The work practice standards in the Indiana rule address nonatomized spray equipment, solvents sprayed during clean up and resin changes, routine flushing of application equipment, and use of closed containers. All provisions listed in 326 IAC 20-48-3 are unequivocally no less stringent than the Federal NESHAP.

The Indiana rule (326 IAC 20-48-4) adds operator training requirements that are not included in the Federal NESHAP. The training requirements apply to personnel involved in resin and gel coat spraying and applications that could result in excess emissions if performed improperly. This section also requires the maintenance of training records on site. All provisions in 326 IAC 20-48-4 are unequivocally no less stringent than the Federal NESHAP.

IV. What Is the Effect of This Delegation?

On September 19, 2006, EPA approved IDEM's request to delegate the authority to implement and enforce 40 CFR part 63, subpart VVVV, through 326 IAC 20-48, which adjusts the boat manufacturing MACT. EPA also approved the delegation of the applicable Category I authorities as set forth at 40 CFR section 63.91(g).

All notifications, reports and other correspondence required under 40 CFR, part 63, subpart VVVV, as adjusted by 326 IAC 20-48, should be sent to the State of Indiana, rather than to the EPA, Region 5, in Chicago. Affected sources should send this information to: Indiana Department of Environmental Management, Office of Air Management, 100 North Senate Avenue, P.O. Box 6015, Indianapolis, Indiana 46206-6015.

Pursuant to Section 112(l)(7) of the CAA, nothing in this delegation prohibits EPA from enforcing any applicable emission standard or requirement. The boat manufacturing MACT, 40 CFR part 63, subpart VVVV, as adjusted by 326 IAC 20-48 is federally enforceable.

Authority: 42 U.S.C. 7401 et seq.

Dated: September 19, 2006.
Gary Gulezian,
Acting Regional Administrator, Region 5.

[FR Doc. E6-15937 Filed 9-27-06; 8:45 am]

BILLING CODE 6560-50-P